DEPARTMENT OF INTERIOR

National Park Service

[NPS-NERO-ACAD-12802; PPNEACADSO, PPMPSPDIZ.YM0000]

Notice of 2013 Meeting Schedule for Acadia National Park Advisory Commission

AGENCY: National Park Service, Interior.

ACTION: Meeting notice.

SUMMARY: This notice sets forth the dates of meetings of the Acadia National Park Advisory Commission occurring in 2013.

DATES: The schedule for future public meetings of the Acadia National Park Advisory Commission is as follows:

1. June 3, 2013, at 1:00PM (EASTERN).

2. September 9, 2013, at 1:00PM (EASTERN).

ADDRESSES: For the June 3, 2013, meeting the commission members will meet at Headquarters, Acadia National Park, Bar Harbor, Maine 04609. For the September 9, 2013, meeting the commission members will meet at Schoodic Education and Research Center Institute (SERCI), Winter Harbor, Maine 04693.

Agenda

Commission meeting will consist of the following:

1. Committee reports:

—Land Conservation

—Park Use

—Science and Education

—Historic

2. Old Business

3. Superintendent's Report

4. Chairman's Report

5. Public Comments

6. Adjournment

FOR FURTHER INFORMATION CONTACT: Further information concerning the meeting may be obtained from the Sheridan Steele, Superintendent, Acadia National Park, P.O. Box 177, Bar Harbor, Maine 04609, telephone (207) 288-3338.

SUPPLEMENTARY INFORMATION: The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: May 7, 2013.
Len Bobinchock,
Acting Superintendent, Acadia National Park.

[FR Doc. 2013-11443 Filed 5-13-13; 8:45 am]

BILLING CODE 4310-wv-P